DEPARTMENT OF TRANSPORTATION

National Highway Traffic Safety Administration

Innovative Grants To Support Increased Safety Belt Use Rates

AGENCY: National Highway Traffic Safety Administration (NHTSA), Department of Transportation (DOT).

ACTION: Announcement of grants to support innovative and effective projects designed to increase safety belt use rates.

SUMMARY: NHTSA announces the fifth year of a grant program under Section 1403 of the Transportation Equity Act for the 21st Century (TEA-21) to provide funding to States for innovative projects to increase safety belt use rates. Consistent with prior years, the goal of this program is to increase safety belt use rates across the Nation in order to reduce the deaths, injuries, and societal costs that result from motor vehicle crashes. Award of funds will be based on criteria specified in this Notice. This Notice solicits applications from the States, the District of Columbia and Puerto Rico, through their Governors' Representatives for Highway Safety, for funds to be made available in fiscal year (FY) 2004. Detailed application instructions are provided in the Application Procedure and the Application Contents and Grant Criteria sections of this Notice.

DATES: Applications must be received by the appropriate NHTSA Regional Office, on or before January 14, 2004.

ADDRESSES: Each State must submit its application to the appropriate NHTSA Regional Office, to the attention of the Regional Administrator, on or before January 14, 2004. Addresses of the ten Regional Offices are listed in Appendix A.

FOR FURTHER INFORMATION CONTACT: Questions relating to this grant program should be directed to Janice Hartwill-Miller, Occupant Protection Division (NTI-112), Office of Impaired Driving and Occupant Protection, NHTSA, 400 Seventh Street, SW., Room 5118, Washington, DC 20590, by e-mail at jhartwill-miller@nhtsa.dot.gov, or by phone at (202) 366-2684. For legal issues, contact John Donaldson, Office of Chief Counsel, NCC-113, NHTSA, 400 Seventh Street, SW., Room 5219, Washington, DC 20590, by phone at (202) 366-1834. Interested applicants are advised that no separate application package exists beyond the contents of this announcement.

SUPPLEMENTARY INFORMATION:

Background

The Transportation Equity Act for the 21st Century (TEA-21), Pub. L. 105-178, was signed into law on June 9, 1998. Section 1403 of TEA-21 contains a safety incentive grant program based on safety belt usage rates in the States. Under this program, funds are allocated each fiscal year to States that exceed the national average safety belt use rate or that improve their State safety belt use rate, based on certain required determinations and findings. Section 1403 provides that any funds remaining unallocated in a fiscal year after determinations and findings related to safety belt use rates have been made are to be used to “make allocations to States to carry out innovative projects to promote increased safety belt use rates.” The authorization for this program under TEA-21 expired at the end of fiscal year 2003. However, on September 30, 2003, Congress enacted the Surface Transportation Extension Act of 2003, Pub. L. 108-88, extending the authorization for the program for an additional five months. As of the date of publication of this Notice, appropriations for the full five month period were not in place. Today's Notice solicits applications for funds that are expected to become available in FY 2004 under this extension provision.

TEA-21 imposes several requirements under the innovative projects funding provision. Specifically, to be eligible to receive an allocation, a State must develop a plan for innovative projects to promote increased safety belt use rates statewide and submit the plan to the Secretary of Transportation (by delegation, to NHTSA). NHTSA was directed to establish criteria governing the selection of State plans for allocations of grant funds and was further directed to “ensure, to the maximum extent practicable, demographic and geographic diversity and a diversity of safety belt use rates among the States selected for allocations.” Finally, subject to the availability of funds, TEA-21 provides that the amount of each grant under a State plan should not be less than $100,000.

In the following sections, the agency describes the application and award procedures for receipt of funds under this program for FY 2004. This description includes the requirements regarding contents of a State's proposal and the elements, procedures and criteria the agency will use to determine which proposals are eligible for award and the amount of each award. Applicants should note that awards are subject to the availability of funds, and Congress has not yet appropriated sufficient funds for this program.

These application and award procedures are built upon the experience of the past several years. They are designed to make the process as streamlined as possible, and at the same time, to ensure that programs with the maximum potential for impact receive adequate funding to significantly increase safety belt usage. This year, the Application Procedure section further simplifies what States are required to address under the Applications Contents and Grants Criteria Section. The award criteria have been designed to support States proposing to carry out intensified, statewide programs of high-visibility enforcement of their safety belt laws. The Application Procedure has been especially streamlined for States that followed the high-visibility enforcement model in May 2003, and converted at least 1 percent of their non-belt users to users. Experience from many States has shown that such programs can substantially increase safety belt use rates in a very short period of time and such gains can be sustained.

Objective of This Grant Program

The objective of this grant program is to increase statewide safety belt use rates by supporting strategies and activities with the greatest potential for impact.

To be considered for an award under this program in FY 2004, the State must conduct a program of high-visibility enforcement of its safety belt law. Further, the proposed program must focus on the national Buckle Up America/Click It or Ticket mobilization, spanning the period from Monday, May 10 through Sunday, June 6, 2004. The State's participation in that 4-week mobilization must include all of the following elements:

• Earned media (press events, news conferences, etc.) spanning the entire 4-week period;

• A paid media campaign, from Monday, May 17 through Sunday, May 30, featuring broadcast advertisements delivering the Click It or Ticket message, or other equally clear enforcement focused message that NHTSA explicitly approves;

• Intensified enforcement activities (e.g., safety belt checkpoints, enforcement zones, saturation patrols) spanning the period from Monday, May 24 through Sunday, June 6, and involving the participation of law enforcement agencies serving at least 85 percent of the State's population.

• Pre- and post-mobilization observational surveys of safety belt use.

The post-mobilization observational survey must be a full statewide survey conforming to NHTSA's Uniform Criteria for State Observational Surveys of Seat Belt Use, (23 CFR part 1340) (the “Uniform Criteria”), for which data collection must begin on or shortly after Monday, June 7 and must conclude no later than July 11, 2004. The pre-mobilization observational survey may be either a full statewide survey or a sub-sample survey derived from the full survey design. Data collection for the pre-mobilization observational survey must begin no earlier than April 1 and conclude no later than May 9, 2004.

Unlike previous years, NHTSA does not intend to sponsor a national safety belt mobilization in November 2004.

NHTSA will consider awarding a Section 157 Innovative grant to a State whose application consists solely of a proposal to participate in the May 10-June 6 national mobilization as detailed above. However, States are strongly encouraged to include a proposal for an additional program of high-visibility enforcement of the safety belt law during FY 2004, subsequent to the May 10-June 6 mobilization. NHTSA intends to permit considerable latitude to the States in choosing the timing and nature of any additional high-visibility enforcement program conducted subsequent to the May 10-June 6 mobilization. Non-exhaustive examples of the kinds of additional high-visibility enforcement programs that NHTSA likely would approve in a State plan include:

• A mobilization (e.g., around Labor Day, 2004), similar to the May 10-June 6 mobilization.

• Two one-week periods of stepped up safety belt enforcement, separated by some interval of time (e.g., one in mid-July, another in late August).

• A sustained enforcement program, spanning two consecutive months (e.g., mid-July through mid-September); this could be achieved, for example, by scheduling each participating law enforcement agency to conduct one or two weeks of stepped up enforcement during that interval, and rotating the schedule so that in any given week the program would be underway in significant portions of the State.

If a State elects to propose an additional high-visibility enforcement program in FY 2004 subsequent to the May 10-June 6 mobilization, NHTSA would consider a program that is integrated with some other traffic safety enforcement initiative (e.g., impaired driving). However, Section 157 Innovative grant funds may be used only to support the safety belt elements of an integrated campaign.

In order to be considered for funding, a proposed additional high-visibility enforcement program must at least have a strong earned media component to deliver the Click It or Ticket message, or other equally clear enforcement focused message that NHTSA explicitly approves. NHTSA recommends that States also include a paid media component, but will consider funding additional high-visibility enforcement programs that are not supported by paid media.

Apart from the required pre- and post-mobilization observational surveys of safety belt use (preceding and following the May 10-June 6 mobilization), no evaluation activities are required of the States for the FY 2004 Section 157 Innovative grants. However, NHTSA will consider funding additional evaluation activities (e.g., telephone or Motor Vehicle Department surveys of public attitudes and awareness), should States propose them.

A State submitting a proposal designed to increase safety belt use in only a limited number of jurisdictions within the State; or a proposal that lacks a commitment to the May 10-June 6, 2004 mobilization; or a proposal that lacks paid media support for that mobilization; or a proposal to employ a message other than Click It or Ticket or some equally clear enforcement focused message that NHTSA explicitly approves; or a proposal that lacks a commitment to conducting a full, statewide, Uniform-Criteria-compliant observational survey of safety belt use following the May 10-June 6, 2004 mobilization; or a proposal that lacks a commitment to conducting either a full statewide observational survey or a sub-sample survey derived from the full survey design prior to that mobilization will not be eligible for a grant award.

As a condition of award, States must agree to provide the results of their own pre- and post-mobilization observational surveys to NHTSA, within the prescribed deadlines, to facilitate NHTSA's overall evaluation of the effectiveness of the FY 2004 grant program. NHTSA will share the results of its telephone surveys with the States. These data will provide information regarding the extent to which the public was aware of the enforcement, PI&E, and outreach efforts in each State, thus assisting statewide evaluation efforts. States may also propose to conduct additional evaluation activities (e.g. conducting motorist surveys at DMVs or licensing centers). NHTSA will aid the States in such efforts wherever possible, such as by tabulating and analyzing the results of motorist/DMV surveys.

Award of Funds and Funding Levels

In FY 2004, the decision to award a Section 157 Innovative Grant to a State will be based on the determination that the activities planned have potential to make a significant impact on safety belt use.

To maximize the potential for impact, it is anticipated that no State will receive a grant award of less than $250,000, subject to the availability of funds. This $250,000 minimum was derived based on experience gained by the agency over the past 4 years of this Innovative Grant program. It reflects the agency's estimate of the minimum resources needed, in smaller or less populated States, to implement an effective statewide safety belt program that includes intensive enforcement and media, appropriate outreach, and pre- and post-mobilization observational surveys.

We expect that some States will receive more than this minimum amount. When developing their proposals, States are encouraged to consider their level of effort and budget in FY 2003.

To the extent that the agency determines that activities proposed in a State's plan do not have substantial impact potential, these activities will not be recommended for funding.

Allowable Uses of Federal Funds

In FY 2004, the Section 157 Innovative Grants funds will be tracked in a fashion similar to other highway safety grants through the Grant Tracking System. Funds provided to a State under this grant program shall be used to carry out the approved activities described in the State's application for which the grant is awarded. In addition, allowable uses of Federal funds shall be governed by 49 CFR Part 18—Department of Transportation Uniform Administrative Requirements for Grants and Cooperative Agreements to State and Local Governments and the cost principles contained in OMB Circular A-87.

Eligibility Requirements

Only the 50 States, the District of Columbia and Puerto Rico, through their Governors' Representatives for Highway Safety, will be eligible to receive funding under this grant program.

Application Procedures

Each applicant must submit one original and two copies of its application to the appropriate NHTSA Regional Office (see Appendix A), to the attention of the Regional Administrator. Applications must be typed on one side of the page only and adhere to the requirements of the Application Contents and Grant Criteria Section below. Appendix B provides checklists to facilitate the preparation of the proposals. Only applications submitted by a State's Governor's Representative for Highway Safety and received in the appropriate NHTSA Regional Office on or before January 14, 2004 will be considered.

Application Options

In order to streamline this year's application and award process, simplified application options are available to most States.

Option A (Replication): Any State that received a Section 157 Innovative grant in FY 2003 and that converted at least one percent of its 2002 non-belt users into belt users in 2003 (based upon observational surveys conforming to the Uniform Criteria) may submit in lieu of a full application, the information required under the Application Contents and Grant Criteria section, Application Option A—Replication. Option A is available only to the 36 States listed in Appendix C, Option A.

Option B (Enhancement): Any State that received a Section 157 Innovative grant in FY 2003 may submit an application limited to the information required under the Application Contents and Grant Criteria section, Application Option B—Enhancement. Option B is available to 45 States, as indicated in Appendix C, Option B. Please note, however, that Option B primarily is intended for the nine States specifically named in Appendix C, Option B. Those States followed the high-visibility enforcement model in May 2003, but did not convert at least 1 percent of their non-belt users to users. Those nine States need to enhance their activities for the May 2004 mobilization to produce greater positive impact.

Option C (Complete Application): Any State may submit a complete application, including an Introduction, a detailed Program Plan, and all required checklists, certifications and budgetary information, as specified under the Application Contents and Grant Criteria section, Application Option C—Complete Application. Please note that any State that did not receive a Section 157 Innovative grant in FY 2003 must follow Option C.

Application Contents and Grant Criteria

1. Application Option A—Replication

A State that applies for a Section 157 Innovative grant in FY 2004 under Application Option A shall submit an application consisting of the following:

• The completed Option A checklist (in Appendix B), with a checkmark in the “check if included” column for every item.

• The Appendix C certifications, signed by the Governor's Representative for Highway Safety, with a checkmark on item (A) and on each of the items (i) through (v), and (vii) and (viii).

• (Optional) Detailed plans (if any) for conducting additional high-visibility enforcement of the State's safety belt law in fiscal year 2004, subsequent to the May 2004 mobilization.

• (Optional) Any evaluation activities the State proposes to carry out, beyond the observational surveys conducted before and after the May 2004 mobilization.

• The proposed budget for the State's FY 2004 Section 157 Innovative grant, using the Appendix D format.

2. Application Option B—Enhancement

A State that applies for a Section 157 Innovative grant in FY 2004 under Application Option B shall submit an application consisting of the following:

• The completed Option B checklist (in Appendix B), with a checkmark in the “check if included” column for every item.

• The Appendix C certifications, signed by the Governor's Representative for Highway Safety, with a checkmark on item (B) and on each of the items (i) through (v) and (vii) and (viii).

• Descriptions of enhancements to the State's May 2003 mobilization activities that the State plans to implement for the May 2004 mobilization.

• (Optional) Detailed plans (if any) for conducting additional high-visibility enforcement of the State's safety belt law in fiscal year 2004, subsequent to the May 2004 mobilization.

• (Optional) Any evaluation activities the State proposes to carry out, beyond the observational surveys conducted before and after the May 2004 mobilization.

• The proposed budget for the State's FY 2004 Section 157 Innovative grant, using the Appendix D format.

3. Application Option C—Complete

A State that applies for a Section 157 Innovative grant in FY 2004 under Application Option C shall submit a complete application, consisting of:

• The completed Option C checklist (in Appendix B), with a checkmark in the “check if included” column for every item.

• The Appendix C certifications, signed by the Governor's Representative for Highway Safety, with a checkmark on item ( C) and on each of the items (i) through (v) and (vii) and (viii).

• An Introduction, discussing the State's current safety belt use rate and recent trends; the goal for increasing use rate in 2004; the State's geographic and demographic population distribution and any other unique characteristics relevant to the State's plans to increase belt use (e.g., ethnic sub-populations, variations in use rate by vehicle type); and any available information pertinent to recent progress or lack of progress in increasing belt use.

• A detailed Program Plan for the May 2004 mobilization, describing how the State intends to recruit law enforcement participation in the mobilization and how much of the State's population will be served by participating law enforcement agencies; how the mobilization will be publicized; the messaging (e.g., Click It or Ticket) the State intends to employ in the publicity; and the kinds of enforcement activities (e.g., checkpoints, saturation patrols) it plans to employ for the mobilization.

• (Optional) Detailed plans (if any) for conducting additional high-visibility enforcement of the State's safety belt law in fiscal year 2004, subsequent to the May 2004 mobilization.

• (Optional) Any evaluation activities the State proposes to carry out, beyond the observational surveys conducted before and after the May 2004 mobilization.

• The proposed budget for the State's FY 2004 Section 157 Innovative grant, using the Appendix D format.

4. Budget: Under all three options, the Budget section of the State's application must include information on Section 157 Innovative grant funds remaining from prior fiscal years, and how much of those prior year funds will be allocated to support the FY 2004 program. States are reminded that all remaining FY 2001 Section 157 Innovative funds must be obligated by the end of FY 2004 (September 30, 2004).

Reporting Requirements and Deliverables: Each grant recipient will be responsible for providing the following reports:

1. Quarterly Reports—The quarterly reports should include a summary of enforcement and other activities and accomplishments for the preceeding period, significant problems encountered or anticipated, a brief itemization of expenditures made during the 3-month reporting period, and proposed activities for the upcoming reporting period. Many States will continue to spend funds awarded during the previous years of this Section 157 Innovative Grant program. NHTSA does not intend that States submit separate Quarterly Reports for the various funding years. Activities carried out during a reporting period under all four years of funding should be documented in the same report. However, the State should include a tabulation of the amount of funds expended during the reporting period from each year. Also, during the first two years, a number of States modified their grants to change from Quarterly to Monthly reporting. Those States should continue to submit Monthly Reports during the fifth year, at least until all previous year funds have been spent. Any decisions and actions required in the upcoming program period should be included in the report.

2. Final Report—A Final Report that includes a summary of the impact of the year-long (CY 2004) program. It should include a complete description of the innovative projects conducted, including partners, overall program implementation, evaluation methodology and findings from the program evaluation, if any. In terms of information transfer, it is important to know what worked and what did not work, under what circumstances, and what can be done to avoid potential problems in future projects. The grantee shall submit three copies of the Final Report to the Regional Office within fifteen months following grant award.

Application Review Procedures

All applications will be reviewed by an Evaluation Committee to ensure that the application meets all of the requirements contained in this notice, including the requirements contained in the Application Contents and Grant Criteria section of the Notice. This evaluation process may include submission of technical or program questions from the evaluation committee to the applicants. In addition, the Evaluation Committee will determine whether the activities and identified resources included in the proposals have potential to make a significant impact on safety belt use. To the extent that the Evaluation Committee determines that proposed activities will not have substantial impact potential, such activities will not be recommended for funding.

More specifically, the Evaluation Committee's review will assess: (a) The comprehensiveness, intensity, feasibility, and potential impact of the proposed approach (where Option A or B is elected, the Committee may rely on documentation from the previous year for assessment); (b) the extent to which adequate funding (from a variety of sources) has been identified to carry out the proposed program elements; and (c) the extent to which the funds requested in the grant proposal are allocated to the required program elements and not to activities with less potential for impact. Activities within any proposal that are determined by the evaluation team not to have significant potential for increasing safety belt usage in the State will not be approved for funding.

It is anticipated that awards will be made in February 2004.

Marilena Amoni,
Associate Administrator for Program Development and Delivery.

Appendix A—NHTSA Regional Offices

Region I (CT, MA, ME, NH, RI, VT), Volpe National Transportation Systems Center, 55 Broadway, Kendall Square, Code 903, Cambridge, MA 02142

Region II (NJ, NY, PR), 222 Mamaroneck Avenue, Suite 204, White Plains, NY 10605

Region III (DE, DC, MD, PA, VA, WV), 10 South Howard Street, Suite 6700, Baltimore, MD 21201

Region IV (AL, FL, GA, KY, MS, NC, SC, TN), Atlanta Federal Center 61 Forsyth Street, SW, Suite 17T30, Atlanta, GA 30303

Region V (IL, IN, MI, MN, OH, WI), 19900 Governors Drive, Suite 201, Olympia Fields, IL 60461

Region VI (AR, LA, NM, OK, TX), 819 Taylor Street, Room 8A38, Fort Worth, TX 76102-6177

Region VII (IA, KS, MO, NE), 901 Locust Street, Room 466, Kansas City, MO 64106

Region VIII (CO, MT, ND, SD, UT, WY), 555 Zang Street, Room 430, Lakewood, CO 80228

Region IX (AZ, CA, HI, NV), 201 Mission Street, Suite 2230, San Francisco, CA 94105

Region X (AK, ID, OR, WA), 3140 Jackson Federal Building 915 Second Avenue, Seattle, WA 98174

Appendix B—Application Checklist for Application Option A—Replication

State:

Element | Check if included | Description
1. Option A Checklist |  | Include a checkmark in the “check if included” column for every item?
2. Appendix C Certifications |  | Place a checkmark on application Option A? Place a checkmark on all items appropriate, (i) through (viii)? Signature from Governor's Highway Safety Representative for certification of all checked items?
3. Additional High-Visibility Enforcement Program subsequent to May 10-June 6 Mobilization (Optional) |  | Describe a credible plan for carrying out a Subsequent Stepped Up Enforcement program supported by (at least) earned media?
4. Appendix D Budget |  | Detail all cost elements and the total proposed cost, following the format in Appendix D?
5. Appendix D Budget |  | Include information on remaining grant funds from Section 157 Innovative, and how they will be applied to the FY 2004 program?
6. Appendix D Budget |  | Identify the share of the total proposed cost that will be allocated to the May 2004 Mobilization and each of its major sub-elements (earned media, paid media, intensified enforcement and safety belt observational surveys)?

Appendix B—Application Checklist for Application Option B—Enhancement

State:

Element | Check if included | Description
1. May Mobilization Enhancements |  | Describe a credible plan for enhancing the State's May 2003 Mobilization activities in May 2004?
2. Option B Checklist |  | Include a checkmark in “check if included” column for every item?
3. Appendix C Certifications |  | Place a checkmark on application option B? Place a checkmark on all items appropriate, (i) through (viii)? Signature from Governor's Highway Safety Representative for certification of all checked items?
4. Additional High-Visibility Enforcement Program subsequent to May 10-June 6 Mobilization (Optional) |  | Describe a credible plan for carrying out a Subsequent Stepped Up Enforcement program supported by (at least) earned media?
5. Appendix D Budget |  | Detail all cost elements and the total proposed cost, following the format in Appendix D?
6. Appendix D Budget |  | Include information on remaining grant funds from Section 157 Innovative, and how they will be applied to the FY 2004 program?
7. Appendix D Budget |  | Identify the share of the total proposed cost that will be allocated to the May 2004 Mobilization and each of its major sub-elements (earned media, paid media, intensified enforcement and safety belt observational surveys)?

Appendix B—Application Checklist for Application Option C—Complete

State:

Element | Check if included | Description
1a. Introduction |  | Describe the State's geographic and demographic population distribution and other unique characteristics relevant to State's plan?
1b. Introduction |  | Describe the State's current use rate and recent trends, and discuss factors contributing to recent progress or lack of progress?
1c. Introduction |  | Specify a realistic goal for increasing safety belt use in 2004?
2. Option C Checklist |  | Include a checkmark in the “check if included” column for every item?
3. Appendix C Certifications |  | Place a checkmark on application option C? Place a checkmark on all items appropriate, (i) through (viii) Signature from Governor's Highway Safety Representative for certification of all checked items?
4. May Mobilization Program Plan |  | Describe a credible plan for carrying out the May 10-June 6 Mobilization, including enforcement, earned and paid media and observational surveys?
5. Additional High-Visibility Enforcement program subsequent to the May 10-June 6 Mobilization (Optional) |  | Describe a credible plan for carrying out a Subsequent Stepped Up Enforcement program supported by (at least) earned media?
6. Appendix D Budget |  | Detail all cost elements and the total proposed cost, following the format in Appendix D?
7. Appendix D Budget |  | Include information on remaining grant funds from Section 157 Innovative, and how they will be applied to the FY 2004 program?
8. Appendix D Budget |  | Identify the share of the total proposed cost that will be allocated to the May 2004 Mobilization and each of its major sub-elements (earned media, paid media, intensified enforcement and safety belt observational surveys)?

Appendix C—Certifications

The State must select only one Option: Please place a check mark in the blank space next to the selected option.

Option (A) ___ State is submitting a Replication Application and plans to replicate its May, 2003 Mobilization in May, 2004.

Only the States of Alaska, Arizona, California, Colorado, Delaware, District of Columbia, Georgia, Hawaii, Iowa, Idaho, Illinois, Indiana, Kentucky, Louisiana, Massachusetts, Maryland, Michigan, Minnesota, Missouri, North Carolina, Nebraska, New Jersey, Nevada, New York, Ohio, Oklahoma, Oregon, Pennsylvania, Rhode Island, South Carolina, Tennessee, Texas, Utah, Virginia, Washington and West Virginia may choose this option, as their May, 2003 Mobilizations converted at least one percent of the 2002 non-belt users into users.

Option (B) ___ State is submitting an Enhancement Application and will include a description of its plans to modify or enhance the May, 2004 Mobilization, over its approach to the May, 2003 Mobilization.

Any State listed in item (A) above may choose Option (B). Also, the States of Alabama, Arkansas, Connecticut, Florida, Mississippi, North Dakota, New Hampshire, Puerto Rico and Vermont may choose Option (B).

Option (C) ___ State is submitting a Complete Application in FY 2004.

Any State may elect to submit a complete application. The States of Kansas, Maine, Montana, New Mexico, South Dakota, Wisconsin and Wyoming must submit complete applications because those States did not receive a Section 157 Innovative grant in FY 2003.

The State must certify to the following items (i) through (v), and (vii) and (viii). The State may certify to item (vi). Please place a check mark in the space next to each selected item.

(i) ___ The State will use the funds awarded under this grant program exclusively to implement a statewide safety belt program in accordance with the requirements of Section 157(b) of Pub. L. 105-178 (TEA-21), as extended by the Surface Transportation Extension Act of 2003, Pub. L. 108-88.

(ii) ___ The State will administer the funds in accordance with 49 CFR part 18 and OMB Circular A-87.

(iii) The State will conduct a statewide Mobilization of high-visibility enforcement of its safety belt law from Monday, May 10 through Sunday, June 6, 2004. The Mobilization will include earned media (press events, news conferences, etc.) spanning the entire 4-week period; a paid media campaign, from Monday, May 17 through Sunday, May 30, featuring broadcast advertisements delivering the Click It or Ticket message, or other equally clear enforcement focused message that NHTSA explicitly approves; intensified enforcement activities (e.g., safety belt checkpoints, enforcement zones, saturation patrols) spanning the period from Monday, May 24 through Sunday, June 6, and involving the participation of local law enforcement agencies serving at least 85 percent of the State's population.

(iv) ___ The State will conduct pre- and post-mobilization observational surveys of safety belt use. The post-mobilization observational survey will be a full statewide survey conforming to the Uniform Criteria, for which data collection will begin on or shortly after Monday, June 7 and will conclude no later than July 11, 2004. The pre-mobilization observational survey will be either a full statewide survey or a sub-sample survey derived from the full survey design; data collection for the pre-observational survey will begin no earlier than Thursday, April 1, and conclude no later than Sunday, May 9.

(v) ___ The State will provide pre- and post-mobilization observational survey data on safety belt use for the May, 2004 Mobilization within one month following the collection of the data.

(vi) ___ (Optional) The State will conduct an additional program of high-visibility enforcement of its safety belt law at one or more time periods during FY 2004, subsequent to the May 10—June 6 mobilization.

(vii) ___ The State will provide to the NHTSA Regional Administrator, no later than 15 months after the grant award, a report of activities carried out with grant funds and accomplishments to date.

(viii) ___ The State will comply with all applicable laws and regulations, financial and programmatic requirements.

Governor's Highway Safety Representative

Date

BILLING CODE 4910-59-P

[FR Doc. 03-29850 Filed 11-28-03; 8:45 am]

BILLING CODE 4910-59-C